DEPARTMENT OF THE INTERIOR

Bureau of Reclamation

Equus Beds Aquifer Recharge and Recovery Project, Equus Beds Division, Wichita Project, KS

AGENCY: Bureau of Reclamation, Interior.

ACTION: Notice of availability of draft environmental impact statement (Draft EIS).

SUMMARY: Pursuant to the National Environmental Policy Act of 1969 (NEPA), the Bureau of Reclamation (Reclamation) has completed the Equus Beds Aquifer Recharge and Recovery Project Draft EIS. It is now available for public review and comment. The Draft EIS describes the development and environmental effects of two alternatives: (1) A no action alternative; and (2) an action alternative that meets the project purpose and need.

The U.S. Environmental Protection Agency and U.S. Fish and Wildlife Service are cooperating agencies providing assistance in the preparation of the Environmental Impact Statement (EIS) under the guidance of NEPA.

DATES: A 60-day public comment period begins with the publication of this notice. Written comments on the Draft EIS are due by September 11, 2009 and should be submitted to Reclamation listed in the ADDRESSES section.

ADDRESSES: Comments on the Draft EIS should be sent to the attention of Charles F. Webster, Bureau of Reclamation, 5924 NW. 2nd Street, Suite 200, Oklahoma City, OK 73127-6514. Comments may also be submitted in writing by facsimile or e-mail. Send facsimiles to the attention of Charles F. Webster at 405-470-4807. Send e-mail to cwebster@usbr.gov with Equus Beds Draft EIS Comment as the subject line.

Copies of the Draft EIS and related documents are available online from Reclamation's Web site at http://www.usbr.gov/gp/nepa/quarterly.cfm. Paper copies of the Draft EIS may be obtained by calling Charles F. Webster at 405-470-4831. Refer to the SUPPLEMENTARY INFORMATION section for locations of libraries and offices where copies of the Draft EIS are available for review.

FOR FURTHER INFORMATION CONTACT: Charles F. Webster at 405-470-4831 or cwebster@usbr.gov. Mail requests should be addressed to the Bureau of Reclamation at the address indicated in the ADDRESSES section.

SUPPLEMENTARY INFORMATION:

Locations where the Draft EIS may be reviewed:

• Halstead Public Library, 264 Main, Halstead, Kansas 67056;

• Hutchinson Public Library, 901 North Main, Hutchinson, KS 67501;

• Newton Public Library, 720 North Oak, Newton, KS 67114;

• Valley Center Public Library, 321 West First Street, Valley Center, KS 67147;

• Wichita Public Library, 223 South Main, Wichita, KS 67202;

• City of Wichita Water and Sewer Department, 455 North Main Street, 8th Floor, Wichita, KS 67202;

• Bureau of Reclamation, 5924 NW. 2nd Street, Suite 200, Oklahoma City, OK 73127.

Background: The “Wichita Project Equus Beds Division Authorization Act of 2005” (Pub. L. 109-299) authorizes the Secretary of the Interior to help the City of Wichita, Kansas, complete the Aquifer Recharge (Storage), and Recovery component (ASR is the acronym for this specific component or project) of Wichita's Integrated Local Water Supply Plan (ILWSP). The broader ILWSP was developed in 1993 to provide municipal and industrial water to Wichita and surrounding region through the year 2050. The ASR component would collect water from the Little Arkansas River basin and pipe it into the local Equus Beds aquifer for recharge and storage. Water would later be recovered from wells in the aquifer and used for the region's needs. The ASR component would become the “Equus Beds Division” of Reclamation's Wichita Project after completion. Operation, maintenance, replacement, and liability of the new division would be the responsibility of the City of Wichita.

Public Law 109-299 requires Reclamation to use, to the extent possible, the city's plans, designs, and analyses. The Federal funding cap would be 25% of total costs, or $30 million (indexed to January 2003), whichever is less. The full scale ASR component is estimated to cost about $500 million and is designed to recharge the Equus Beds aquifer with up to 100 million gallons of water per day (MGD).

Proposed Action: The Bureau of Reclamation (Reclamation) proposes to enter into a cost-share agreement with the City of Wichita for the Equus Beds aquifer ASR component. The entire ASR component is designed as one project consisting of four main phases (I-IV). Details and diagrams of the project are provided in the Draft EIS. Phase I is complete and has the capacity to divert and recharge up to 10 MGD. Phase IIa is currently being developed by the City independent of Federal cost-sharing. The proposed cost-share agreement would guide Federal expenditures during Phases IIb through IV. These phases of the project are the focus of the EIS. Reclamation would not own or operate the project at any point during design, construction, implementation, or any other process.

Reclamation would administer financing of Federal funds for the proposed action alternative identified as the 100 MGD ASR Plan with 60/40 Option. This alternative would collect, pre-treat, and recharge the Equus Beds aquifer with 100 MGD of water collected from the Little Arkansas River basin. The 60/40 Option refers to the 60 percent that would come from surface water taken directly from the Little Arkansas River and forty percent from induced infiltration (ground) wells located along the river bank.

Four recharge basins and 42 recharge wells connected by pipelines would be used to recharge the aquifer. Wells would be constructed outside of riparian zones where possible. Water pumped directly from the river would occur at two intakes. The first intake is at Halstead and was constructed during Phase I. The second intake is near Sedgwick and is being constructed as part of Phase IIa. The second intake would be modified during Phase IV to bring total ASR component diversion capacity to 100 MGD. When available, water would be piped to either the Phase I pre-sedimentation plant or to a second, proposed plant. Approximately 46 miles of pipeline, 62 miles of fiber optic cable, access roads, and other facilities would be built during Phases IIa-IV. The total cost of construction for the 100 MGD ASR Plan with 60/40 Option is currently estimated at about $500 million and includes about $115 million spent during Phases I and IIa.

Purpose and Need for the Action: The first purpose of the ASR component is to provide a safe and reliable future source of drinking water for Wichita while restoring the Equus Beds water table. Federal funding is authorized to help implement the ASR project and defray costs that would otherwise be passed on to local customers. Approximately 32% of Wichita's water supply comes from the Equus Beds. The aquifer also supplies irrigation and livestock water throughout the region. There are approximately 1,650 non-domestic water wells withdrawing about 157,000 acre-feet (51.2 billion gallons) of water per year from the aquifer. Use of the Equus Beds aquifer for both municipal and agricultural needs over the last 60 years has exceeded recharge. This has resulted in a drop in the water table of 40 feet in some places. Approximately 50% of the water used annually goes to agriculture, 34% to cities, 15% to industry, and 1% to other users.

A second purpose is to protect water quality in the aquifer. The decline in the Equus Beds aquifer water table has allowed water with higher salt content to enter the aquifer. Saltwater encroachment has become a problem because as freshwater levels have dropped, saltwater has infiltrated from the Arkansas River and other sources. This change in gradient between fresh and saltwater allows the movement of poor quality water into the aquifer. Continuing saltwater encroachment will degrade water quality to the point where the water would require much more treatment to make it drinkable. In addition, the use of saline water for irrigation would damage crops, reduce soil productivity, and increase salt infiltration through soils. The ASR component would help maintain a safe gradient between fresh and saltwater sections, protecting the aquifer from saltwater encroachment.

The ASR component is needed because population and resulting water demands of Wichita and surrounding areas are projected to increase markedly by 2050. Increasing demands and water use could further deplete the aquifer. The ASR component would provide a reliable and safe source of high quality water for Wichita's future. The project would:

• Store surface water underground thereby reducing evaporation and other losses.

• Reduce the gradient between fresh and saltwater sections within the aquifer to protect water quality.

• Capture surface water for storage during periods of high stream flow.

• Protect stored water from short-term, seasonal, annual, and long-term climate change.

Alternatives: The Draft EIS addresses the effects of one action alternative and a no action alternative. The alternatives for Federal action evaluated in the Draft EIS include:

(1) Proposed Action—Reclamation would enter into a cost share agreement to assist with construction of facilities and infrastructure to implement the 100 MGD ASR Plan with 60/40 Option.

(2) No Action Alternative—Under “No Action,” Reclamation would not enter into a cost-share agreement for reimbursement to the City for project implementation costs.

Public Disclosure Statement: Before including your name, address, telephone number, e-mail address, or other personal identifying information in your comment, you should be aware that your entire comment—including your personal identifying information—may be made publicly available at any time. While you can ask us in your comment to withhold your personal identifying information from public review, we cannot guarantee that we will be able to do so.

Dated: June 29, 2009.
Michael J. Ryan,
Regional Director, Great Plains Region.

[FR Doc. E9-16043 Filed 7-9-09; 8:45 am]

BILLING CODE 4310-MN-P